DEPARTMENT OF JUSTICE

Drug Enforcement Administration

21 CFR Part 1312

[Docket No. DEA-282P]

RIN 1117-AB03

Authorized Sources of Narcotic Raw Materials

AGENCY: Drug Enforcement Administration (DEA), Justice.

ACTION: Notice of proposed rulemaking; extension of comment period.

SUMMARY: DEA is extending the comment period on the Notice of Proposed Rulemaking entitled “Authorized Sources of Narcotic Raw Materials” published October 4, 2006 (71 FR 58569).

DATES: The period for public comment which was to close on December 4, 2006, will be extended to January 3, 2007. Written comments must be postmarked, and electronic comments must be sent, on or before January 3, 2007.

ADDRESSES: To ensure proper handling of comments, please reference “Docket No. DEA-282P” on all written and electronic correspondence. Written comments being sent via regular mail should be sent to the Deputy Assistant Administrator, Office of Diversion Control, Drug Enforcement Administration, Washington, DC 20537, Attention: DEA Federal Register Representative/Liaison and Policy Section (ODL). Written comments sent via express mail should be sent to DEA Headquarters, Attention: DEA Federal Register Representative/ODL, 2401 Jefferson-Davis Highway, Alexandria, VA 22301. Comments may be directly sent to DEA electronically by sending an electronic message to dea.diversion.policy@usdoj.gov. Comments may also be sent electronically through http://www.regulations.gov using the electronic comment form provided on that site. An electronic copy of this document is also available at the http://www.regulations.gov Web site. DEA will accept attachments to electronic comments in Microsoft word, WordPerfect, Adobe PDF, or Excel file formats only. DEA will not accept any file formats other than those specifically listed here.

FOR FURTHER INFORMATION CONTACT: Christine A. Sannerud, PhD, Chief, Drug and Chemical Evaluation Section, Office of Diversion Control, Drug Enforcement Administration, Washington, DC 20537, telephone: (202) 307-7183.

SUPPLEMENTARY INFORMATION: DEA published a notice of Proposed Rulemaking (71 FR 58569, October 4, 2006) proposing to update the list of nontraditional countries authorized to export narcotic raw materials (NRM) to the United States by replacing Yugoslavia with Spain. This action will maintain a consistent and reliable supply of narcotic raw materials from a limited number of countries consistent with United States' obligations under international treaties and resolutions.

On November 3, 2006, DEA received a request that the comment period be extended to February 5, 2007. The Australian Government indicated that the additional time would be necessary to consult with the Australian State of Tasmania, the Tasmanian Poppy Advisory and Control Board and the Australian poppy industry to better evaluate the short- and long-term implications of this Notice of Proposed Rulemaking.

Upon consideration of this request, DEA is granting a thirty day extension of the comment period. This allows sufficient time for persons to evaluate and consider all relevant information and respond accordingly. Therefore, the comment period is extended to January 3, 2007. Written comments must be postmarked, and electronic comments must be sent, on or before this date.

Dated: November 28, 2006.
Joseph T. Rannazzisi,
Deputy Assistant Administrator.

[FR Doc. E6-20383 Filed 11-30-06; 8:45 am]

BILLING CODE 4410-09-P